DEPARTMENT OF THE TREASURY

Internal Revenue Service

Open Meeting of the Taxpayer Advocacy Panel's Toll-Free Phone Line Project Committee

AGENCY: Internal Revenue Service (IRS), Treasury.

ACTION: Notice of meeting.

SUMMARY: An open meeting of the Taxpayer Advocacy Panel's Toll-Free Phone Line Project Committee will be conducted. The Taxpayer Advocacy Panel is soliciting public comments, ideas and suggestions on improving customer service at the Internal Revenue Service.

DATES: The meeting will be held Monday, January 11, 2016 and Tuesday, January 12, 2016.

FOR FURTHER INFORMATION CONTACT: Linda Rivera at 1-888-912-1227 or 202-317-3337.

SUPPLEMENTARY INFORMATION: Notice is hereby given pursuant to Section 10(a)(2) of the Federal Advisory Committee Act, 5 U.S.C. App. (1988) that an open meeting of the Taxpayer Advocacy Panel Toll-Free Phone Line Project Committee will be held Monday, January 11, 2016, from 1:00 p.m. to 4:30 p.m. Central Time and Tuesday, January 12, 2016, from 8:15 a.m. until 4:30 p.m. Central Time at the IRS Office, 55 North Robinson Avenue, Oklahoma City, OK 73102. The public is invited to make oral comments or submit written statements for consideration. Due to limited time and structure of meeting, notification of intent to participate must be made with Marianne Dominguez. For more information please contact Linda Rivera at 1-888-912-1227 or 202-317-3337, or write TAP Office, 1111 Constitution Ave. NW., Room 1509, Washington, DC 20224 or contact us at the Web site: http://www.improveirs.org. The agenda will include various IRS issues.

Dated: December 17, 2015.
Otis Simpson,
Acting Director, Taxpayer Advocacy Panel.

[FR Doc. 2015-32482 Filed 12-24-15; 8:45 am]

BILLING CODE 4830-01-P